EXPORT-IMPORT BANK OF THE UNITED STATES

[Public Notice: 2014-6004]

Agency Information Collection Activities; Proposals Submissions, and Approvals

AGENCY: Export-Import Bank of the United States.

ACTION: Submission for OMB review and comments request.

Form Title: EIB 95-09 Letter of Interest Application.

SUMMARY: The Export-Import Banks of the United States (Ex-Im Bank), as part of its continuing effort to reduce paperwork and respondent burden, invites the general public and other Federal Agencies to comment on the proposed information collection, as required by the Paperwork Reduction Act of 1995.

The Letter of Interest (LI) is an indication of Export-Import (Ex-Im) Bank's willingness to consider financing a given export transaction. Ex-Im Bank uses the requested information to determine the applicability of the proposed export transaction and determines whether or not to consider financing that transaction.

The form can be reviewed at: http://www.exim.gov/pub/pending/95-9-li-1.pdf

DATES: Comments must be received on or before April 28, 2014 to be assured of consideration.

ADDRESSES: Comments may be submitted electronically on WWW.REGULATIONS.GOV or by mail to Michele Kuester, Export-Import Bank of the United States, 811 Vermont Ave. NW., Washington, DC 20571.

SUPPLEMENTARY INFORMATION: Title and Form Number: EIB 95-09 Letter of Interest Application.

OMB Number: 3048-0005.

Type of Review: Regular.

Need and Use: The Letter of Interest (LI) is an indication of Export-Import (Ex-Im) Bank's willingness to consider financing a given export transaction. Ex-Im Bank uses the requested information to determine the applicability of the proposed export transaction system prompts and determines whether or not to consider financing that transaction.

Affected Public: This form affects entities involved in the export of U.S. goods and services.

Annual Number of Respondents: 540.

Estimated Time per Respondent: 0.5 hours.

Annual Burden Hours: 270.

Frequency of Reporting of Use: On occasion.

Government Reviewing Time per Year: 270.

Average Wages per Hour: $42.50.

Average Cost per Year: $11,475.

Benefits and Overhead: 20%.

Total Government Cost: $13,770.

Bonita Jones-McNeil,
Records Management Analyst, Records Management Division.

[FR Doc. 2014-04293 Filed 2-26-14; 8:45 am]

BILLING CODE 6690-01-P